DEPARTMENT OF HOMELAND SECURITY

Transportation Security Administration

49 CFR Parts 1540, 1544, and 1560

[Docket No. TSA-2007-28572]

RIN 1652-AA45

Secure Flight Program

AGENCY: Transportation Security Administration, DHS.

ACTION: Proposed Rule: Extension of Comment Period.

SUMMARY: The Transportation Security Administration (TSA) is extending the comment period on the Notice of Proposed Rulemaking regarding the Secure Flight Program published on August 23, 2007. TSA has decided to grant, in part, two requests for an extension of the comment period and will extend the comment period for thirty (30) days. The comment period will now end on November 21, 2007, instead of October 22, 2007.

DATES: The comment period for the proposed rule at 72 FR at 48356, August 23, 2007, is extended until November 21, 2007.

ADDRESSES: You may submit comments, identified by the TSA docket number to this rulemaking, to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue, SE., West Building Ground Floor, Room W12-140, Washington, DC 20590-0001; Fax 202-493-2251. The Department of Transportation (DOT), which maintains and processes TSA's official regulatory dockets, will scan the submission and post it to FDMS.

See SUPPLEMENTARY INFORMATION for format and other information about comment submissions.

FOR FURTHER INFORMATION CONTACT: Kevin Knott, Policy Manager, Secure Flight, Office of Transportation Threat Assessment and Credentialing, TSA-19, Transportation Security Administration, 601 South 12th Street, Arlington, VA 22202-4220, telephone (240) 568-5611.

SUPPLEMENTARY INFORMATION:

Comments Invited

TSA invites interested persons to participate in this action by submitting written comments, data, or views. We also invite comments relating to the economic, environmental, energy, or federalism impacts that might result from this action. See ADDRESSES above for information on where to submit comments.

With each comment, please identify the docket number at the beginning of your comments. TSA encourages commenters to provide their names and addresses. The most helpful comments reference a specific portion of the document, explain the reason for any recommended change, and include supporting data. You may submit comments and material electronically, in person, by mail, or fax as provided under ADDRESSES, but please submit your comments and material by only one means. If you submit comments by mail or delivery, submit them in an unbound format, no larger than 8.5 by 11 inches, suitable for copying and electronic filing.

If you want TSA to acknowledge receipt of comments submitted by mail, include with your comments a self-addressed, stamped postcard on which the docket number appears. We will stamp the date on the postcard and mail it to you.

TSA will file in the public docket all comments received by TSA, except for comments containing confidential information and sensitive security information (SSI),¹ TSA will consider all comments received on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the action. Comments containing this type of information should be appropriately marked as containing such information and submitted by mail to the address listed in FOR FURTHER INFORMATION CONTACT section.

Upon receipt of such comments, TSA will not place the comments in the public docket and will handle them in accordance with applicable safeguards and restrictions on access. TSA will hold documents containing SSI, confidential business information, or trade secrets in a separate file to which the public does not have access, and place a note in the public docket that TSA has received such materials from the commenter. However, if TSA determines that portions of these comments may be made publicly available, TSA may include a redacted version of the comment in the public docket. If TSA receives a request to examine or copy information that is not in the public docket, TSA will treat it as any other request under the Freedom of Information Act (FOIA) (5 U.S.C. 552) and the Department of Homeland Security's (DHS”) FOIA regulation found in 6 CFR part 5.

Reviewing Comments in the Docket

Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://DocketInfo.dot.gov.

You may review TSA's electronic public docket on the Internet at http://www.regulations.gov. In addition, DOT's Docket Management Facility provides a physical facility, staff, equipment, and assistance to the public. To obtain assistance or to review comments in TSA's public docket, you may visit this facility between 9 a.m. to 5 p.m., Monday through Friday, excluding legal holidays, or call (202) 366-9826. This docket operations facility is located in the West Building Ground Floor, Room W12-140 at 1200 New Jersey Avenue, SE., Washington, DC 20590.

Availability of the Notice of Proposed Rulemaking and Comments Received

You can get an electronic copy using the Internet by—

(1) Searching the electronic Federal Docket Management System (FDMS) Web page at http://www.regulations.gov;

(2) Accessing the Government Printing Office's Web page at http://www.gpoaccess.gov/fr/index.html; or

(3) Visiting TSA's Security Regulations Web page at http://www.tsa.gov and accessing the link for “Research Center” at the top of the page.

In addition, copies are available by writing or calling the individual in the FOR FURTHER INFORMATION CONTACT section. Make sure to identify the docket number of this rulemaking.

Comment Period Extension

On August 23, 2007, TSA published a Notice of Proposed Rulemaking (NPRM) on the Secure Flight Program (see 72 FR 48356, August 23, 2007). The NPRM had a 60-day comment period that would end on October 22, 2007. In a request dated September 28, 2007, the Air Transport Association of America (ATA) requested that the deadline for filing comments on the Secure Flight NPRM be extended from October 22, 2007 to December 21, 2007. In a request dated October 4, 2007, the International Air Transport Association (IATA) similarly requested that the deadline for filing comments on the Secure Flight NPRM be extended until January 21, 2008.

TSA has decided to grant, in part, ATA and IATA's requests for an extension and will extend the comment period for thirty (30) days. The comment period will now be a total of 90 days and will end on November 21, 2007. This extension will allow the aviation industry and other interested entities and individuals additional time to complete their comments on the NPRM.

With this extension, the comment period for the Secure Flight NPRM will be the same as the comment period that U.S. Customs and Border Protection (CBP) provided for the NPRM on Passenger Manifests for Commercial Aircraft Arriving in and Departing From the United States; Passenger and Crew Manifests for Commercial Vessels Departing From the United States (“Pre-Departure APIS”). 71 FR 43681 (Aug. 23, 2006) (extending the original comment period from 30 days to 90 days). As discussed in the Secure Flight NPRM, the Pre-Departure APIS rulemaking is related to the Secure Flight NPRM in that together, the two rulemakings explain the Department of Homeland Security's (DHS’) proposed unified approach to watchlist matching for international and domestic passenger flights.

Issued in Arlington, Virginia, on October 18, 2007.
Gale Rossides,
Acting Deputy Administrator.

[FR Doc. 07-5254 Filed 10-19-07; 3:33 pm]

BILLING CODE 9110-05-P